ENVIRONMENTAL PROTECTION AGENCY

[EPA-HQ-OPP-2005-0231; FRL-9342-6]

Metaldehyde; Notice of Receipt of Request To Voluntarily Amend a Registration To Terminate Certain Uses

AGENCY: Environmental Protection Agency (EPA).

ACTION: Notice.

SUMMARY: In accordance with section 6(f)(1) of the Federal Insecticide, Fungicide, and Rodenticide Act (FIFRA), as amended, EPA is issuing a notice of receipt of a request by the registrant to voluntarily amend its metaldehyde product registration to terminate or delete one or more uses. The request would delete metaldehyde use in or on all but the following sites: Artichokes, blueberries, caneberries (bingleberry, black raspberry, blackberry, boysenberry, dewberry, lowberry, marionberry, olallieberry, red raspberry, youngberry) and other berries (currant, elderberry, gooseberry, huckleberry, loganberry, lingonberry, juneberry, salal), citrus, lettuce, cole crops and other leafy greens (broccoli, Brussels sprouts, cabbage, cauliflower, cavalo, broccolo, collards, kale, kohlrabi, mizuna, mustard greens, mustard spinach, rape greens), grass grown for seed, ornamentals, prickly pear cactus, tomato, strawberry, watercress, and use sites with directions for use in state and/or Federal invasive mollusk eradication operations. The request would not terminate the last metaldehyde product registered for use in the United States. EPA intends to grant this request at the close of the comment period for this announcement unless the Agency receives substantive comments within the comment period that would merit its further review of the request, or unless the registrant withdraws its request. If this request is granted, any sale, distribution, or use of products listed in this notice will be permitted after the uses are terminated only if such sale, distribution, or use is consistent with the terms as described in the final order.

DATES: Comments must be received on or before September 19, 2012.

ADDRESSES: Submit your comments, identified by docket identification (ID) number EPA-HQ-OPP-2005-0231, by one of the following methods:

• Federal eRulemaking Portal: http://www.regulations.gov. Follow the online instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2005-0231. EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Jill Bloom, Pesticide Re-evaluation Division (7508P), Office of Pesticide Programs, Environmental Protection Agency, 1200 Pennsylvania Ave. NW., Washington, DC 20460-0001; telephone number: (703) 308-8019; fax number: (703) 308-7070; email address: bloom.jill@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of the Request To Amend the Registration To Terminate Uses

This notice announces receipt by EPA of a request from Lonza, Inc., to amend its metaldehyde product registration to terminate certain uses. Metaladehyde is a molluscide used to kill snail and slug pests of various food, seed, and ornamental plants. Lonza holds the sole registration for a metaldehyde manufacturing-use product. The Agency determined in 2006 that some uses of metaldehyde were not eligible for reregistration. In correspondence dated February 23, 2012, Lonza requested that EPA amend the registration of its metaldehyde manufacturing-use product to terminate certain uses. The subject pesticide product registration is identified in Table 1 of Unit III. Because the current metaldehyde manufacturing-use product label lists only broad categories of permitted use sites (e.g., terrestrial food crops, outdoor noncommercial homeowner uses), it is not feasible to reference specific use sites that will be deleted. The request by Lonza is for an amendment that terminates all uses except a subset that has been determined to be eligible for reregistration. The excepted uses are artichokes, blueberries, caneberries (bingleberry, black raspberry, blackberry, boysenberry, dewberry, lowberry, marionberry, olallieberry, red raspberry, youngberry) and other berries (currant, elderberry, gooseberry, huckleberry, loganberry, lingonberry, juneberry, salal), citrus, lettuce, cole crops and other leafy greens (broccoli, Brussels sprouts, cabbage, cauliflower, cavalo, broccolo, collards, kale, kohlrabi, mizuna, mustard greens, mustard spinach, rape greens), grass grown for seed, ornamentals, prickly pear cactus, tomato, strawberry, watercress, and use sites with directions for use in state and/or Federal invasive mollusk eradication operations. Lonza has requested that it be allowed to sell existing stocks of its product as currently labeled for 18 months after the use terminations become effective, and that other registrants be permitted to use existing stocks until those stocks are exhausted. The registrant's request will not terminate the last metaldehyde products registered in the United States. Other registrants who formulate Lonza's metaldehyde manufacturing-use product into end-use products have submitted new labels that conform to the Reregistration Eligibility Decision. Coupled with the actions of the formulators, the request by Lonza would terminate the last metaldehyde pesticide products registered in the United States for all but the specific uses cited in this notice.

III. What action is the agency taking?

This notice announces receipt by EPA of a request from a registrant to amend its metaldehyde product registration to terminate certain uses. The affected product and the registrant making the request are identified in Tables 1 and 2 of this unit.

Unless the request is withdrawn by the registrant or the Agency determines that there are substantive comments that warrant further review of this request, EPA intends to issue an order amending the affected registration.

Table 1—Metaldehyde Product Registration Subject to the Pending Request for Amendment
Registration No. | Product name | Company
6836-107 | Lonza Meta Metaldehyde Technical Molluscicide | Lonza, Inc.

Table 2 of this unit shows the name and address of record for the registrant of the product listed in Table 1 of this unit.

Table 2—Registrant Requesting Voluntary Amendment
EPA company No. | Company name and address
6836 | Lonza, Inc., 90 Boroline Road, Allendale, NJ 07401

IV. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The metaldehyde registrant has not requested that EPA waive the 180-day comment period. Accordingly, EPA will provide a 180-day comment period on the request.

V. Procedures for Withdrawal of Requests

Registrants who choose to withdraw a request for product cancellation or use deletion should submit the withdrawal in writing to the person listed under FOR FURTHER INFORMATION CONTACT. If the products have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the request for the amendment to terminate uses is granted, the Agency intends to publish the use termination order in the Federal Register.

In any order issued in response to this request for an amendment to terminate uses, EPA proposes to include the following provisions for the treatment of any existing stocks of the product listed in Table 1 of Unit III.

Once EPA has approved the product label reflecting the requested amendments to terminate uses, the registrant will be permitted to sell or distribute the product under the previously approved labeling for a period of 18 months after the date of Federal Register publication of the use termination order, unless other restrictions have been imposed. Thereafter, the registrant will be prohibited from selling or distributing the product identified in Table 1 of Unit III. with labels which include the deleted uses, except for export consistent with FIFRA section 17 or for proper disposal.

Persons other than the registrant may sell, distribute, or use existing stocks of the product with labels which include the deleted uses until supplies are exhausted, provided that such sale, distribution, or use is consistent with the terms of the previously approved labeling on, or that accompanied, the deleted uses.

List of Subjects

Environmental protection, Pesticides and pests.

Dated: March 15, 2012.
Richard P. Keigwin, Jr.,
Director, Pesticide Re-evaluation Division, Office of Pesticide Programs.

[FR Doc. 2012-7078 Filed 3-22-12; 8:45 am]

BILLING CODE 6560-50-P